DEPARTMENT OF THE INTERIOR

Bureau of Land Management

[LLNV912000 L10100000.PH0000 LXSS0006F0000 241A; 12-08807; MO# 4500051236;-TAS:14X1109]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Nevada Northeastern Great Basin Resource Advisory Council (RAC), will hold two meetings in Nevada in 2013. All meetings are open to the public.

Dates and Times: A June 27 meeting in Elko will be held via video conference and can be viewed at the BLM Ely, Elko or Battle Mountain district offices. A September 12 meeting will be held at the Ely District Office. Meeting times will be published in local and regional media sources at least 14 days before each meeting. All meetings will include a public comment period.

ADDRESSES:

• Elko District Office, 3900 E. Idaho Street, Elko, Nevada.

• Ely District Office, 702 North Industrial Way, HC 33, Ely, Nevada.

• Battle Mountain District Office, 50 Bastian Road, Battle Mountain, Nevada.

FOR FURTHER INFORMATION CONTACT: Lesli Ellis-Wouters, Public Affairs Officer, Elko District Office, 3900 E. Idaho St., Elko, NV 89801. Telephone: (775) 753-0386. Email: lellis@blm.gov.

SUPPLEMENTARY INFORMATION: The 15-member Council advises the Secretary of the Interior, through the BLM, on a variety of planning and management issues associated with public land management in Nevada. Topics for discussion at each meeting will include, but are not limited to:

• June 27 (Elko)—mine water management and an overview of oil and gas development on public lands.

• September 12 (Ely)—overview of draft sub-regional Greater Sage-grouse Environment Impact Statement.

Managers' reports of field office activities will be given at each meeting. The Council may raise other topics at any of the three planned meetings.

Final agendas will be posted on-line at the BLM Northeastern Great Basin Resource Advisory Council Web site at http://www.blm.gov/nv/st/en/res/resource_advisory.html and will be published in local and regional media sources at least 10 days before each meeting.

Individuals who need special assistance such as sign language interpretation or other reasonable accommodations, or who wish to receive a copy of each agenda, may contact Lesli Ellis-Wouters no later than 10 days prior to each meeting.

Erica Haspiel-Szlosek,
Chief, Office of Communications.

[FR Doc. 2013-13007 Filed 5-31-13; 8:45 am]

BILLING CODE 4310-HC-P